POSTAL SERVICE BOARD OF GOVERNORS

Sunshine Act Meeting

Board Votes to Close March 26, 2002, Meeting

By telephone vote on March 26, 2002, the Board of Governors of the United States Postal Service voted unanimously to close to public observation its meeting held in Washington, DC, vie teleconference. The Board determined that prior public notice was not possible.

ITEM CONSIDERED: 1. Strategic Planning.

GENERAL COUNSEL CERTIFICATION: The General Counsel of the United States Postal Service has certified that the meeting was properly closed under the Government in the Sunshine Act.

CONTACT PERSON FOR MORE INFORMATION: Requests for information about the meeting should be addressed to the Secretary of the Board, William T. Johnstone, at (202) 268-4800.

William T. Johnstone,
Secretary.

[FR Doc. 02-7934 Filed 3-28-02; 2:30 pm]

BILLING CODE 7710-12-M